DEPARTMENT OF HEALTH AND HUMAN SERVICES

National Institutes of Health

Center for Scientific Review; Amended Notice of Meeting

Notice is hereby given of a change in the meeting of the Center for Scientific Review Special Emphasis Panel, February 26, 2010, 2 p.m. to February 26, 2010, 5 p.m., National Institutes of Health, 6701 Rockledge Drive, Bethesda, MD, 20892 which was published in the Federal Register on February 24, 2010, 75 FR 8371.

The meeting will be held March 15, 2010. The meeting time and location remain the same. The meeting is closed to the public.

Dated: February 25, 2010.
Jennifer Spaeth,
Director, Office of Federal Advisory Committee Policy.

[FR Doc. 2010-4594 Filed 3-4-10; 8:45 am]

BILLING CODE 4140-01-P